DEPARTMENT OF TRANSPORTATION

Federal Motor Carrier Safety Administration

[Docket No. FMCSA-2024-0097]

Agency Information Collection Activities; Renewal of an Approved Information Collection Request: Safe Driver Apprenticeship Pilot Program

AGENCY: Federal Motor Carrier Safety Administration (FMCSA), Department of Transportation (DOT).

ACTION: Notice and request for comments.

SUMMARY: In compliance with the Paperwork Reduction Act (PRA) of 1995, FMCSA announces its plan to submit the information collection request (ICR) described below to the Office of Management and Budget (OMB) for its review and approval and invites public comment. FMCSA requests approval to renew an ICR titled, “Safe Driver Apprenticeship Pilot Program.” This ICR was previously approved under emergency procedures on April 4, 2024, and expires on September 30, 2024. The ICR is necessary for FMCSA to continue data collection under a pilot program which seeks to determine the safety impacts of allowing 18- to 20-year-old commercial driver's license (CDL) holders to operate commercial motor vehicles (CMVs) in interstate commerce. The ICR covers data collected on drivers and carriers participating in the pilot program.

DATES: Comments on this notice must be received on or before August 12, 2024.

ADDRESSES: You may submit comments identified by Federal Docket Management System (FDMS) Docket Number FMCSA-2024-0097 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: 1-202-493-2251.

To avoid duplication, please use only one of these four methods. See the “Public Participation and Request for Comments” portion of the SUPPLEMENTARY INFORMATION section for instructions on submitting comments.

FOR FURTHER INFORMATION CONTACT: Nicole Michel, Mathematical Statistician, Research Division, DOT, FMCSA, West Building, 6th Floor, 1200 New Jersey Avenue SE, Washington, DC 20590-0001; 202-366-4354; Nicole.michel@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2024-0097), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2024-0097/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Background

Current regulations on driver qualifications (49 CFR part 391.11(b)(1)) state that a driver must be 21 years of age or older to operate a CMV in interstate commerce. Currently, drivers under the age of 21 may operate CMVs only in intrastate commerce subject to State laws and regulations.

Section 23022 of the Infrastructure Investment and Jobs Act (IIJA), requires the Secretary of Transportation to conduct a commercial driver Apprenticeship Pilot Program. An apprentice is defined as a person under the age of 21 who holds a CDL. Under this program, these apprentices will complete two probationary periods, during which they may operate in interstate commerce only under the supervision of an experienced driver in the passenger seat. An experienced driver is defined in section 23022 as a driver who is not younger than 26 years old, has held a CDL and been employed for at least the past 2 years, and has at least 5 years of interstate CMV experience and meets the other safety criteria defined in the IIJA.

The first probationary period must include at least 120-hours of on duty time, of which at least 80 hours are driving time in a CMV. To complete this probationary period, the employer must determine competency in:

1. Interstate, city traffic, rural two-lane, and evening driving;

2. Safety awareness;

3. Speed and space management;

4. Lane control;

5. Mirror scanning;

6. Right and left turns; and

7. Logging and complying with rules relating to hours of service.

The second probationary period must include at least 280 hours of on-duty time, including not less than 160 hours driving time in a CMV. To complete this probationary period, the employer must determine competency in:

1. Backing and maneuvering in close quarters;

2. Pre-trip inspections;

3. Fueling procedures;

4. Weighing loads, weight distribution, and sliding tandems;

5. Coupling and uncoupling procedures; and

6. Trip planning, truck routes, map reading, navigation, and permits.

After completion of the second probationary period the apprentice may begin operating CMVs in interstate commerce unaccompanied by an experienced driver.

In addition to data regarding successful completion of the probationary periods, the IIJA requires collection of data relating to any incident in which a participating apprentice is involved as well as other data relating to the safety of apprentices. Additional information collected will include crash data (e.g., incident reports, police reports, insurance reports), inspection data, citation data, safety event data (as recorded by all safety systems installed on vehicles, to include advanced driver assistance systems, automatic emergency braking systems, onboard monitoring systems, required forward-facing video systems, and optional in-cab video systems, if a carrier chooses to provide this data) as well as exposure data (e.g., record of duty status logs, on-duty time, driving time, and time spent away from home terminal). This data will be submitted monthly through participating motor carriers.

The data collected will be used to report on the following items, as required by section 23022 of the IIJA:

1. The findings and conclusions on the ability of technologies or training provided to apprentices as part of the pilot program to successfully improve safety;

2. An analysis of the safety record of participating apprentices as compared to other CMV drivers;

3. The number of drivers that discontinued participation in the apprenticeship program before completion;

4. A comparison of the safety records of participating drivers before, during, and after each probationary period; and

5. A comparison of each participating driver's average on-duty time, driving time, and time spent away from home terminal before, during, and after each probationary period.

FMCSA will monitor the monthly data being reported by the motor carriers and will identify drivers or carriers that may pose a risk to public safety. While removing unsafe drivers or carriers may bias the dataset, it is a necessary feature for FMCSA to comply with 49 CFR 381.505, which requires development of a monitoring plan to ensure adequate safeguards to protect the health and safety of pilot program participants and the general public. Knowing that a driver or carrier was removed from the pilot program for safety reasons will help FMCSA minimize bias in the final data analysis.

The statutory mandate for this pilot program is contained in section 23022 of the IIJA. FMCSA's regulatory authority for initiation of a pilot program is 49 CFR 381.400. The Apprentice Pilot Program supports the DOT strategic goal of economic strength while maintaining DOT's and FMCSA's commitment to safety.

The Consolidated Appropriations Act of 2024 (Pub. L. 118-42) revised FMCSA's authority regarding the Safe Driver Apprenticeship Pilot (SDAP) Program. Section 422 of that Act states that FMCSA may not require the use of inward facing cameras or require a motor carrier to register an apprenticeship program with the Department of Labor as a condition for participation in the SDAP program. As such, the application and monthly report forms have been revised to remove those two elements as mandatory requirements. However, the Agency will continue to ask carriers whether they use inward facing cameras and whether they have a Registered Apprenticeship program approval number and will give carriers the option of providing that information. Therefore, FMCSA does not expect to see any change in the number of respondents, responses, or the overall burden of this information collection. In accordance with the PRA and OMB's implementing regulations at 5 CFR 1320.13, this information is necessary to the mission of the Agency and is needed prior to the ordinary time periods established for revision of an approved collection of information (found within 5 CFR 1320).

Definitions: N/A.

Title: Safe Driver Apprenticeship Pilot Program.

OMB Control Number: 2126-0075.

Type of Request: Renewal of an information collection previously approved under emergency authority.

Expiration Date: September 30, 2024.

Respondents: Motor carriers; drivers.

Estimated Number of Respondents: 14,830 total (1,600 motor carriers and 13,230 CMV drivers); 5,410 annually (1,000 carriers and 4,410 CMV drivers).

Estimated Total Responses: 168,430 total, or 56,143 annually (applications: 14,830 total, or 4,943 annually; plus data collection for participating carriers: 153,600 total, or 51,200 annually).

Estimated Burden per Response: 20 minutes per response for carrier, apprentice, and experienced driver application forms; 15 minutes per response for safety benchmark certifications; 60 minutes per month per driver for monthly driving and safety data; 90 minutes per month for miscellaneous data submission.

Frequency of Response: Application (motor carrier, apprentice driver, and experienced driver): once; safety benchmark certifications: twice per apprentice driver; monthly driving and safety data: carrier submits monthly data on each apprentice driver; miscellaneous data submissions: monthly.

Estimated Total Annual Burden Hours: 169,343 hours total, or 56,448 hours annually (motor carriers: 164,933 hours total, or 54,978 hours annually; drivers: 4,410 hours total, or 1,470 hours annually).

Frequency: Once for carrier, apprentice, and experienced driver application forms; twice per apprentice for safety benchmark certifications; monthly per number of participating drivers for driving and safety data; and monthly for miscellaneous monthly data.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.

Thomas P. Keane,
Associate Administrator, Office of Research and Registration.

[FR Doc. 2024-13020 Filed 6-12-24; 8:45 am]

BILLING CODE 4910-EX-P